DEPARTMENT OF JUSTICE

Antitrust Division

Notice Pursuant to the National Cooperative Research and Production Act of 1993—Cooperative Research Group Advanced Fluids for Electrified Vehicles 2

Notice is hereby given that, on November 12, 2024, pursuant to section 6(a) of the National Cooperative Research and Production Act of 1993, 15 U.S.C. 4301 et seq. (“the Act”), Cooperative Research Group Advanced Fluids for Electrified Vehicles 2 (“AFEV2”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Afton Chemical Corporation, Richmond, VA; Aisin Corporation, Kariya, JAPAN; American Axle & Manufacturing, Detroit, MI; Cargill Incorporated, Wayzata, MN; Chevron U.S.A. Inc., Richmond, CA; Dana Incorporated, Maumee, OH; Deere and Company, Moline, IL; Emery Oleochemicals LLC, Cincinnati, OH; Eneos Corporation, Tokyo, JAPAN; ExxonMobil Technology and Engineering Company, Spring, TX; Petro-Canada Lubricants Inc., Ontario, CANADA; Idemitsu Kosan Co., Ltd., Chiyoda City, JAPAN; Infineum USA LP, Linden, NJ; The Lubrizol Corporation, Wickliffe, OH; Petronas Lubricants Italy S.p.A, Turin, ITALIAN REPUBLIC; Shell Global Solutions, US Inc., Wilmington, DE; SK Enmove Co., Ltd., Seoul, REPUBLIC OF KOREA; Toyota Motor Company, Aichi, JAPAN; Vanderbilt Chemicals, LLC, Norwalk, CT; and Volvo, Gothenburg, KINGDOM OF SWEDEN.

The general area of AFEV2's planned activities is to better understand the unique stressors placed on electric vehicle fluids which will enable development and optimization of electric vehicle powertrains.

Suzanne Morris,
Deputy Director Civil Enforcement Operations, Antitrust Division.

[FR Doc. 2025-04063 Filed 3-13-25; 8:45 am]

BILLING CODE P